FEDERAL COMMUNICATIONS COMMISSION

47 CFR Part 73

[DA 01-1094; MM Docket No. 00-194, RM-9972; MM Docket No. 00-196, RM-9974; MM Docket No. 00-197, RM-9975]

Radio Broadcasting Services; Paradise, MI; Lynchburg, TN; and Rincon, TX

AGENCY: Federal Communications Commission.

ACTION: Final rule.

SUMMARY: This document grants two proposals that allot new FM channels to Paradise, Michigan and Lynchburg, Tennessee. It also denies a petition for rule making to allot a new FM channel to Rincon, Texas. Filing windows for Channel 234A at Paradise, Michigan, and Channel 296A at Lynchburg, Tennessee will not be opened at this time. Instead, the issue of opening these allotments for auction will be addressed by the Commission in a subsequent order.

DATES: Effective June 11, 2001.

FOR FURTHER INFORMATION CONTACT: R. Barthen Gorman, Mass Media Bureau, (202) 418-2180.

SUPPLEMENTARY INFORMATION: This is a synopsis of the Commission's Report and Order in MM Docket No. 00-194; MM Docket No. 00-196; and MM Docket No. 00-197, adopted April 18, 2001, and released April 27, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission, at the request of David C. Schaburg, allots Channel 234A at Paradise, Michigan, as the community's first local aural transmission service. See 65 FR 64924 (October 31, 2000). Channel 234A can be allotted at Paradise in compliance with the Commission's minimum distance separation requirements at city reference coordinates. The coordinates for Channel 234A at Paradise are 46-37-42 North Latitude and 85-02-18 West Longitude.

The Commission, at the request of Mash Media, allots Channel 296A at Lynchburg, Tennessee, as the community's first local aural transmission service. See 65 FR 64924 (October 31, 2000). Channel 296A can be allotted to Lynchburg in compliance with the Commission's minimum distance separation requirements at city reference coordinates. The coordinates for Channel 296A at Lynchburg are 35-16-54 North Latitude and 86-22-24 West Longitude.

List of Subjects in 47 CFR Part 73

Radio broadcasting.

Part 73 of Title 47 of the Code of Federal Regulations is amended as follows:

PART 73—RADIO BROADCAST SERVICES

1. The authority citation for Part 73 continues to read as follows:

Authority: 47 U.S.C. §§ 154, 303, 334, 336.

§ 73.202 [Amended]

2. Section 73.202(b), the Table of FM Allotments under Michigan, is amended by adding Paradise, Channel 234A.

3. Section 73.202(b), the Table of FM Allotments under Tennessee, is amended by adding Lynchburg, Channel 296A.

Federal Communications Commission.
John A. Karousos,
Chief, Allocations Branch, Policy and Rules Division, Mass Media Bureau.

[FR Doc. 01-12087 Filed 5-14-01; 8:45 am]

BILLING CODE 6712-01-P